DEPARTMENT OF HEALTH AND HUMAN SERVICES

Centers for Disease Control and Prevention

[60 Day-06-0017]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Application for Training (OMB No. 0920-0017)—Revision—Office of Workforce and Career Development (OWCD), Centers for Disease Control and Prevention (CDC).

Background and Brief Description

The OWCD is requesting an additional three years for this ongoing project, to continue the use of the training and continuing education forms, specifically for CDC and the Agency for Toxic Substances and Disease Registry (ATSDR). The program is also requesting approval of minor revisions made to the training forms currently being used.

The Centers for Disease Control and Prevention (CDC) through its Centers, Institutes, and Offices (CIOs) offers training activities on public health topics to professionals worldwide. Employees of hospitals, universities, medical centers, laboratories, state and federal agencies, and state and local health departments apply for training in an effort to learn up-to-date public health practices. CDC's training activities include laboratory training, classroom study, online training, and distance learning activities.

The training application forms provide CDC with information necessary to manage and conduct training activities pertinent to its agency mission. The information collected in these forms allows CDC to send confirmation of registration to participants, provide certificates of attendance or continuing education credits as proof of their attendance, and generate management reports used to identify training needs, design courses, select location for courses, and evaluate programs.

CDC is accredited by six different continuing education organizations to award credit: (1) The International Association for Continuing Education and Training (IACET) to provide Continuing Education Units (CEUs), (2) the Accreditation Council for Continuing Medical Education (ACCME) to provide Continuing Medical Education credits (CME), (3) the American Nurses Credentialing Center (ANCC) to provide Continuing Nurse Education credits (CNE), (4) the National Commission for Health Education Credentialing (NCHEC) to award CHES credit, (5) the Accreditation Council for Pharmacy Education (ACPE) to provide continuing pharmacy credit, and (6) the American Association of Veterinary State Boards to award Registry of Approved Continuing Education (RACE) credit. The accrediting organizations require a method of tracking an individual completing an educational activity and demographic data allows us to do so. Also, many of the organizations require a permanent record which lists the participant's name, address, and phone number to retrieve historical information as to when a particular individual completed a course or several courses over a time period. This information provides the basis for producing a requested transcript or determining if a person is enrolled in more than one course. The e-mail address is used to verify the participant's electronic request for transcripts, course certificates and confirmation into the course.

The information requested on the forms is used to grant public health professionals the continuing education credits they need to maintain their licenses and certification required by their profession. This information is also needed to create a transcript or summary of training completed at the participant's request. In addition, the forms are also needed to generate management reports and to maintain training statistics. These reports assist CDC in the management of its training programs, such as, identifying training needs, designing courses, selecting locations for courses, evaluating programs, and conducting impact analysis.

CDC's training application forms are used for uniformity and standardization that are required for tracking attendance in the course offerings. The standardized data that is required for the laboratory training, classroom study, online training, and distance learning activities are only provided on these forms. No other CDC component requests this information.

The information on the Application for Training form is required in order to meet the accrediting organizations standards and to distinguish specific professional groups for aggregate reporting purposes. Data is collected only once per course or once per new registration.

The annual burden table has been updated to reflect an increase in distanced based learning. There are no costs to the respondents other than their time.

Estimated Annualized Burden Hours
Forms | Number of respondents | Number of responses per respondent | Average burden per response (in hours) | Total burden hours
Application for Training | 40,000 | 1 | 5/60 | 3,333
Total | 40,000 |  |  | 3,333

Dated: June 26, 2006.
Joan F. Karr,
Acting Reports Clearance Officer, Centers for Disease Control and Prevention.

[FR Doc. E6-10343 Filed 6-29-06; 8:45 am]

BILLING CODE 4163-18-P